DEPARTMENT OF COMMERCE

National Telecommunications and Information Administration

First Responder Network Authority

First Responder Network Authority Combined Committee and Board Meeting

AGENCY: First Responder Network Authority (“FirstNet”), U.S. Department of Commerce.

ACTION: Notice of open public meetings.

SUMMARY: The Board of the First Responder Network Authority (“Board”) will convene an open public meeting on September 14, 2017, preceded by a combined meeting of the Committees of the First Responder Network Authority (“Board Committees”) that will be open to the public via teleconference and WebEx on September 13, 2017.

DATES: A combined meeting of the Board Committees will be held on September 13, 2017, between 9:00 a.m. and 12:00 p.m., Mountain Daylight Time (MDT). The meeting of the Board Committees will be open to the public via teleconference and WebEx only from 9:00 a.m. to 12:00 p.m. MDT. The meeting of the Board will be held on September 14, 2017, between 9:00 a.m. to 12:00 p.m. MDT. The meeting of the Board will be open to the public from 9:00 a.m. to 12:00 p.m. MDT.

ADDRESSES: The combined meeting of the Board Committees will be conducted via teleconference and WebEx only. Members of the public may listen to the meeting by dialing toll free 1-800-593-8976 and using passcode 3471793. The meeting of the Board will be held at the Hyatt Place Boulder, 2280 Junction Place, Boulder, CO 80301. Members of the public may listen to the meeting by dialing toll free 1-800-593-8976 and entering participant code 3471793.

FOR FURTHER INFORMATION CONTACT: Karen Miller-Kuwana, Board Secretary, FirstNet, 12201 Sunrise Valley Drive, M/S 243, Reston, VA 20192; telephone: (571) 665-6177; email: Karen.Miller-Kuwana@firstnet.gov. Please direct media inquiries to Ryan Oremland at (571) 665-6186.

SUPPLEMENTARY INFORMATION: This notice informs the public that the Board Committees will convene a combined meeting open to the public via teleconference and WebEx only on September 13, 2017, and the Board will convene an open public meeting on September 14, 2017.

Background: The Middle Class Tax Relief and Job Creation Act of 2012 (47 U.S.C. 1401 et seq.)) (“the Act”) established FirstNet as an independent authority within the National Telecommunications and Information Administration that is headed by a Board. The Act directs FirstNet to ensure the building, deployment, and operation of a nationwide, interoperable public safety broadband network. The FirstNet Board is responsible for making strategic decisions regarding FirstNet's operations. The FirstNet Board held its first public meeting on September 25, 2012.

Matters to be Considered: FirstNet will post a detailed agenda for the combined meeting of the Board Committees and Board meeting on its Web site, http://www.firstnet.gov, prior to the meetings. The agenda topics are subject to change. Please note that the subjects that will be discussed by the Board Committees and the Board may involve commercial or financial information that is privileged or confidential or other legal matters affecting FirstNet. As such, the Board Committee Chairs and Board Chair may call for a vote to close the meetings only for the time necessary to preserve the confidentiality of such information, pursuant to 47 U.S.C. 1424(e)(2).

Times and Dates of Meeting: A combined meeting of the Board Committees will be held on September 13, 2017, between 9:00 a.m. and 12:00 p.m., Mountain Daylight Time (MDT). The meeting of the Board Committees will be open to the public via teleconference and WebEx from 9:00 a.m. to 12:00 p.m. MDT. The meeting of the Board will be held on September 14, 2017, and will be open to the public between 9:00 a.m. to 12:00 p.m. MDT. The times listed above are subject to change. Please refer to FirstNet's Web site at www.firstnet.gov for the most up-to-date information.

Place: The combined meeting of the Board Committees, on September 13, 2017, will be conducted via teleconference and WebEx only and accessible as described in this notice. The Board Meeting on September 14, 2017, will be held at the Hyatt Place Boulder, 2280 Junction Place, Boulder, CO 80301.

Other Information: The combined meeting of the Board Committees is open to the public via teleconference and WebEx only. On the date and time of the meeting, members of the public may call toll free 1-800-593-8976 and using passcode 3471793. To view the slide presentation, the public may visit the URL: https://www.mymeetings.com/nc/join/ and enter Conference Number PWXW5018602 and audience passcode 3471793. Alternatively, members of the public may view the slide presentation by directly visiting the URL: https://www.mymeetings.com/nc/join.php?i=PWXW5018602&p=3471793&t=c.

If you experience technical difficulty, please contact the Conferencing Center customer service at 1-866-900-1011. Public access will be limited to listen-only. Due to the limited number of ports, attendance via teleconference will be on a first-come, first-served basis.

The Board Meeting is open to the public and press on a first-come, first-served basis. Space is limited. To ensure an accurate headcount, all expected attendees are asked to provide notice of intent to attend by sending an email to BoardRSVP@firstnet.gov. If the number of RSVPs indicates that expected attendance has reached its capacity, FirstNet will respond to all subsequent notices indicating that capacity has been reached and that in-person viewing may no longer be available but that the meeting may still be viewed by webcast as detailed below. For access to the meetings, valid government issued photo identification may be requested for security reasons. The Board Meeting will also be webcast. Please refer to FirstNet's Web site at www.firstnet.gov for webcast instructions and other information. Viewers experiencing any issues with the live webcast may email support@sparkstreetdigital.com or call 202-684-3361 x3 for support. A variety of automated troubleshooting tests are also available via the “Troubleshooting Tips” button on the webcast player. The Board Meeting will also be available to interested parties by phone. To be connected to the Board Meeting in listen-only mode by telephone, please dial toll free 1-800-593-8976 and using passcode 3471793. If you experience technical difficulty, please contact the Conferencing Center customer service at 1-866-900-1011. The Combined Committee Meetings and Board Meeting are accessible to people with disabilities. Individuals requiring accommodations, such as sign language interpretation or other ancillary aids, are asked to notify Ms. Miller-Kuwana by telephone (571) 665-6177 or email at Karen.Miller-Kuwana@firstnet.gov at least five (5) business days before the applicable meeting.

Records: FirstNet maintains records of all FirstNet Board proceedings. Minutes of the FirstNet Board Meeting and the Board Committee Meetings will be available at www.firstnet.gov.

Dated: August 21, 2017.
Karen Miller-Kuwana,
Board Secretary, First Responder Network Authority.

[FR Doc. 2017-18008 Filed 8-24-17; 8:45 am]

BILLING CODE 3510-TL-P